DEPARTMENT OF VETERAN AFFAIRS

Delegation of Authority

AGENCY: Department of Veterans Affairs.

ACTION: Notice.

SUMMARY: On March 13, 2020, the President declared a national emergency recognizing the threat that the ongoing outbreak of COVID-19, the disease caused by the novel (new) coronavirus known as SARS-CoV-2 (“the virus”), poses to the Nation's healthcare systems. On April 10, 2020, the President of the United States issued a Memorandum for the Secretary of Veterans Affairs, “Authorizing the Exercise of Authority under Public Law 85-804.” The Memorandum authorizes the Secretary to exercise authority with respect to contracts performed in support of efforts by the Department of Veterans Affairs to combat COVID-19. The President authorized and directed the Secretary of Veterans Affairs to publish this memorandum in the Federal Register. The text of the memorandum is set out below.

SUPPLEMENTARY INFORMATION:

Signing Authority

The Secretary of Veterans Affairs approved this document and authorized the undersigned to sign and submit the document to the Office of the Federal Register for publication electronically as an official document of the Department of Veterans Affairs. Pamela Powers, Chief of Staff, Performing the Delegable Duties of the Deputy Secretary, Department of Veterans Affairs, approved this document on April 16, 2020, for publication.

Jeffrey M. Martin,
Assistant Director, Office of Regulation Policy & Management, Office of the Secretary, Department of Veterans Affairs.

MEMORANDUM FOR THE SECRETARY OF VETERANS AFFAIRS

SUBJECT: Authorizing the Exercise of Authority Under Public Law 85-804

By the authority vested in me as President by the Constitution and the laws of the United States of America, I hereby direct the following:

Section 1. On March 13, 2020, I declared a national emergency recognizing the threat that the ongoing outbreak of COVID-19, the disease caused by the novel (new) coronavirus known as SARS-CoV-2 (“the virus”), poses to the Nation's healthcare systems. I also determined on the same day that the COVID-19 outbreak constitutes an emergency, of nationwide scope, pursuant to section 501(b) of the Robert T. Stafford Disaster Relief and Emergency Assistance Act (42 U.S.C. 5191(b)). On March 18, 2020, I declared that health and medical resources needed to respond to the spread of COVID-19 meet the criteria specified in section 101(b) of the Defense Production Act of 1950 (50 U.S.C. 4511(b)), including that they are essential to the national defense.

Sec. 2. The Secretary of Veterans Affairs is authorized to exercise authority under Public Law 85-804, as amended (50 U.S.C. 1431 et seq.), to the same extent and subject to the same conditions and limitations as the head of an executive department or agency listed in section 21 of Executive Order 10789 of November 14, 1958 (Authorizing Agencies of the Government to Exercise Certain Contracting Authority in Connection with National-Defense Functions and Prescribing Regulations Governing the Exercise of Such Authority), as amended, with respect to contracts performed in support of efforts by the Department of Veterans Affairs to combat the virus. This authority may only be exercised with regard to transactions directly responsive to the COVID-19 national emergency.

Sec. 3. The Department of Veterans Affairs is exercising functions in connection with the national defense in the course of contributing to the Nation's response to the ongoing outbreak of COVID-19. I deem that the authorization provided in this memorandum and actions taken pursuant to that authorization would facilitate the national defense.

Sec. 4. This memorandum shall terminate on September 30, 2020.

Sec. 5. (a) Nothing in this memorandum shall be construed to impair or otherwise affect:

(i) The authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

Sec. 6. You are authorized and directed to publish this memorandum in the Federal Register.

DONALD J. TRUMP

[FR Doc. 2020-08441 Filed 4-21-20; 8:45 am]

BILLING CODE 8320-01-P